DEPARTMENT OF ENERGY

Federal Energy Regulatory Commission

[Project No. 13256-000]

Whitman River Dam, Inc.; Notice of Preliminary Permit Application Accepted for Filing and Soliciting Comments, Motions To Intervene and Competing Applications

August 19, 2008.

On July 18, 2008, Whitman River Dam, Inc. filed an application, pursuant to section 4(f) of the Federal Power Act (FPA), proposing to study the feasibility of the Snows Mill Pond Project to be located on the Whitman River in Worcester County, Massachusetts. Existing facilities are owned by the Newark America Paper Company, Inc.

The proposed project would utilize the existing Snows Mill Pond Dam and would consist of: (1) A new 42 inch diameter, 1,100 foot long penstock; (2) a powerhouse containing one turbine generator unit with a total installed capacity of 0.25 MW; (3) a 500 foot long, 0.6 kV transmission line and; (4) appurtenant facilities. The annual production would be 1.5 GWh which would be sold to a local utility.

Applicant Contact: Mr. Robert T. Francis, P.O. Box 145, 10 Tommy Francis Road, Westminster, MA 01473 (978) 874-1010.

FERC Contact: Steven Sachs (202) 502-8666.

Deadline for filing comments, motions to intervene, competing applications (without notices of intent), or notices of intent to file competing applications: 60 days from the issuance of this notice.

Comments, motions to intervene, notices of intent and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13256) in the docket number field to access the document. For assistance, call toll-free 1-866-208-3372.

Kimberly D. Bose,
Secretary.

[FR Doc. E8-19686 Filed 8-25-08; 8:45 am]

BILLING CODE 6717-01-P